DEPARTMENT OF TRANSPORTATION

Federal Aviation Administration

Notice of Intent To Rule on Application to Impose and Use the Revenue From a Passenger Facility Charge (PFC) at Valley International Airport, Harlingen, TX

AGENCY: Federal Aviation Administration (FAA), DOT.

ACTION: Notice of intent to rule on application.

SUMMARY: The FAA proposes to rule and invites public comment on the application to impose and use the revenue from a PFC at Valley International Airport under the provisions of the Aviation Safety and Capacity Expansion Act of 1990 (Title IX of the Omnibus Budget Reconciliation Act of 1990) (Public Law 101-508) and Part 158 of the Federal Aviation Regulations (14 CFR part 158).

DATES: Comments must be received on or before September 4, 2001.

ADDRESSES: Comments on this application may be mailed or delivered in triplicate copies to the FAA at the following address: Mr. G. Thomas Wade, Federal Aviation Administration, Southwest Region, Airports Division, Planning and Programming Branch, ASW-611, Fort Worth, Texas 76193-0610.

In addition, one copy of any comments submitted to the FAA must be mailed or delivered to T. Michael Browining, A.A.E., Manager of Valley International Airport at the following address: Director of Aviation, Valley International Airport, Airport Terminal Building, Harlingen, TX 78550.

Air carriers and foreign air carriers may submit copies of the written comments previously provided to the Airport under Section 158.23 of Part 158.

FOR FURTHER INFORMATION CONTACT: Mr. G. Thomas Wade, Federal Aviation Administration, Southwest Region, Airports Division, Planning and Programming Branch, ASW-611, Fort Worth, Texas 76193-0610, (817) 222-5613.

The application may be reviewed in person at this same location.

SUPPLEMENTARY INFORMATION: The FAA proposes to rule and invites public comment on the application to impose and use the revenue from a PFC at Valley International Airport under the provisions of the Aviation Safety and Capacity Expansion Act of 1990 (Title IX of the Omnibus Budget Reconciliation Act of 1990) (Public Law 101-508) and Part 158 of the Federal Aviation Regulations (14 CFR Part 158).

On July 19, 2001, the FAA determined that the application to impose and use the revenue from a PFC submitted by the Airport was substantially complete within the requirements of Section 158.25 of Part 158. The FAA will approve or disapprove the application, in whole or in part, no later than October 20, 2000.

The following is a brief overview of the application.

Level of the proposed PFC: $3.00.

Proposed charge effective date: January 1, 2002.

Proposed charge expiration date: February 1, 2006.

Total estimated PFC revenue: $5,032.330.

PFC application number: 01-02-C-00-HRL.

Brief description of proposed project(s):

Projects To Impose and Use PFC's

1. Construct Air Cargo Apron

2. Extend Bodenhamer Drive to FM 509

3. Install Air Cargo Ramp Lighting

4. Acquire and Install Replacement Passenger Loading Bridge

5. Overlay Bob Youker, Woodall Boulevard and Bodenhamer Drive

6. Rehabilitate Taxiway F

7. Construct Blast Pad

8. Upgrade Runway Lighting (17L/35R and 13/31)

9. Acquire Land for Runway Protection Zones

10. Construct Taxiways L and M

11. Improve Runway Safety Areas (35L and 35R)

12. Extend and Overlay Taxiway C

13. Reconstruct Air Carrier Apron

14. Convert Runway 8/26 to a Taxiway

15. Reconstruct Perimeter Road

16. Overlay General Aviation North Apron

17. Reconstruct West Cargo Apron

18. Overlay Taxiways J and K

19. Terminal Modifications

20. Reconstruct Terminal Access Roads

21. PFC Applications Administration

Proposed class or classes of air carriers to be exempted from collecting PFC's: FAR Part 135 on demand air Taxi/Commercial Operator (ATCO) reporting on FAA Form 1800-31.

Any person may inspect the application in person at the FAA office listed above under FOR FURTHER INFORMATION CONTACT and at the FAA regional Airports office located at: Federal Aviation Administration, Southwest Region, Airports Division, Planning and Programming Branch, ASW-610, 2601 Meacham Blvd., Fort Worth, Texas 76137-4298.

In addition, any person may, upon request, inspect the application, notice and other documents germane to the application in person at Valley International Airport.

Issued in Fort Worth, Texas on July 19, 2001.
Naomi L. Saunders,
Manager, Airports Division.

[FR Doc. 01-19369 Filed 8-2-01; 8:45 am]

BILLING CODE 4910-13-M